DEPARTMENT OF LABOR

Employment and Training Administration

[TA-W-61,863]

G.E. Ravenna Lamp Plant, Ravenna, OH; Notice of Revised Determination on Reconsideration

By letter dated August 30, 2007, a worker requested administrative reconsideration regarding Alternative Trade Adjustment Assistance (ATAA). The certification for Trade Adjustment Assistance (TAA) was signed on August 24, 2007. The Department's Notice of determination will soon be published in the Federal Register.

The certification stated that all workers of the subject firm who are separated from employment on or after July 10, 2006 through August 24, 2009, are eligible to apply for TAA. However, because the subject workers were covered by a certification that expired on July 29, 2006 (TA-W-55,294), the Department is amending the impact date of TA-W-61,863 to July 30, 2006.

The initial investigation determined that the subject worker group possesses skills that are easily transferable.

In the request for reconsideration, the worker alleged that there are no jobs for which the separated workers can apply.

During the reconsideration investigation, the Department found that none of the major manufacturing firms in the local area are hiring.

At least five percent of the workforce at the subject firm is at least fifty years of age. Competitive conditions within the industry are adverse.

Conclusion

After careful review of the information obtained in the reconsideration investigation, I determine that the requirements of Section 222 and Section 246 of the Trade Act of 1974, as amended, have been met for workers at the subject firm.

In accordance with the provisions of the Act, I make the following certification:

“All workers of G.E. Ravenna Lamp Plant, Ravenna, Ohio, who became totally or partially separated from employment on or after July 30, 2006 through August 24, 2009, are eligible to apply for adjustment assistance under Section 223 of the Trade Act of 1974, and are eligible to apply for alternative trade adjustment assistance under Section 246 of the Trade Act of 1974.”

Signed in Washington, DC this 7th day of September, 2007.
Elliott S. Kushner,
Certifying Officer, Division of Trade Adjustment Assistance.

[FR Doc. E7-18617 Filed 9-20-07; 8:45 am]

BILLING CODE 4510-FN-P